DEPARTMENT OF AGRICULTURE

Rural Business-Cooperative Service

Rural Housing Service

Rural Utilities Service

7 CFR Parts 1719, 1738, 1739, 1774, 1775, 3570, 4274, 4279, 4280, and 4288

[Docket Number: RHS-22-ADMIN-0025]

Rural Development Regulations With the Unique Entity Identifier (UEI) for Federal Awards

AGENCY: Rural Business-Cooperative Service, Rural Housing Service, Rural Utilities Service, USDA.

ACTION: Final rule.

SUMMARY: The Rural Business-Cooperative Service (RBCS), Rural Housing Service (RHS), and Rural Utilities Services (RUS), agencies in the United States Department of Agriculture (USDA) Rural Development (RD) Mission area, are issuing a final rule to update RD program regulations by removing references to the Data Universal Numbering System (DUNS) numbers and replacing them with the new Unique Entity Identifier (UEI) as the primary means of identifying entities registered for Federal awards government-wide in the System for Award Management (SAM).

DATES: Effective date: May 1, 2024.

FOR FURTHER INFORMATION CONTACT: Lauren Cusick, Rural Development Innovation Center—Regulations Management Division, United States Department of Agriculture, 1400 Independence Avenue SW, South Building, Washington, DC 20250-1522. Telephone: (202) 720-1414. Email: lauren.cusick@usda.gov.

SUPPLEMENTARY INFORMATION:

I. Background

RD is a mission area within USDA comprised of RBCS, RHS, and RUS that strives to increase economic opportunity and improve the quality of life for all rural Americans. RD invests in rural America with loan, grant, and loan guarantee programs to help drive economic security and prosperity. These programs help expand access to high-speed internet, electric, telecommunications, and transportation infrastructure as well as support business growth, healthcare, education, housing, and other community essentials.

In 2016, the Federal Government revised both the Federal Acquisition Regulation (FAR) and title 2 of the Code of Federal Regulations (CFR) to remove any proprietary references to the DUNS. On July 10, 2019, the General Services Administration (GSA) published a notice in the Federal Register at 84 FR 32916, announcing a public meeting that was held on July 25, 2019. During this meeting, GSA presented information on replacing the DUNS with a governmentwide UEI. A universal identifier is required under titles 2 and 48 of the CFR for all applicants (non-individuals), recipients, and subrecipients of Federal agency awards.

On April 4, 2022, the universal identifier used across the Federal Government transitioned from using the DUNS number to the UEI, which is now the official identifier for doing business with the Federal Government. UEIs are required in accordance with 2 CFR part 25, and this transition has resulted in the UEI being issued by the Federal Government through SAM which is a government-wide registry for any entity doing business with the Federal Government, from securing Federal contracts to receiving Federal financial assistance. SAM centralizes information in conducting the acquisition and financial assistance which includes grants and cooperative agreements processes and provides a central location for Federal award recipients to change organizational information. The use of an UEI means entities no longer rely on a third party to obtain an identifier which has allowed the government to streamline the entity identification and validation process, making it easier and less burdensome for entities to do business with the Federal Government.

The Administrative Procedures Act exempts from prior notice any actions “relating to agency management or personnel or to public property, loans, grants, benefits, or contracts” (5 U.S.C. 553(b)(A)): therefore, RD is issuing this action as a final rule.

II. Summary of Changes

This final rule will update the remaining RBCS, RHS, and RUS regulations that are still using a DUNS number reference and replace it with the UEI. This change will make it clear that the UEI will be required, unless exempt, when applying for Federal awards from RD. The following is a summary, by regulation, of the changes made:

1. 7 CFR part 1719. Section 1719.5(b)(2)(ii) was updated to replace the requirement for a DUNs number with the UEI.

2. 7 CFR part 1738. Section 1738.202 was updated to remove paragraph (b) that addressed the DUNs number, the remaining paragraphs were redesignated, and the new paragraph (b) was updated to incorporate the UEI with the SAM registration information and the reference to a commercial and Government Entity (CAGE) code in paragraph (c) was removed as that is no longer required.

3. 7 CFR part 1739. Section 1739.10 was updated to remove paragraph (c) that addressed the DUNs number, paragraph (d) was redesignated as paragraph (c) and the new paragraph (c)(1) was updated to incorporate the UEI with the SAM registration information.

4. 7 CFR part 1774. Section 1774.2 was updated to remove the definition of DUNS number and § 1774.10(a) was updated to replace the DUNS number information with UEI.

5. 7 CFR part 1775. Section 1775.2 was updated to remove the definition of DUNS number and § 1775.10, paragraphs (b)(3) and (c) were updated to replace the DUNS number information with the UEI.

6. 7 CFR part 3570. Section 3570.252 was updated to remove the definition of DUNS number and § 3570.267(b) was updated to replace the DUNS number information with the UEI.

7. 7 CFR part 4274. Section 4274.352(a)(4)(i) was updated to replace the DUNS number with the UEI.

8. 7 CFR part 4279. The introductory text for §§ 4279.161 and 4279.261(i) were updated to replace the DUNS number with the UEI.

9. 7 CFR part 4280. Section 4280.416(c)(3) was updated to replace the DUNS number with the UEI.

10. 7 CFR part 4288. Section 4288.20(b) was updated to replace the DUNS number with the UEI.

III. Executive Orders

Paperwork Reduction Act

This final rule contains no reporting or recordkeeping provisions requiring Office of Management and Budget (OMB) approval under the Paperwork Reduction Act of 1995 (44 U.S.C. chapter 35).

E-Government Act Compliance

RD is committed to the E-Government Act, which requires Government agencies in general to provide the public the option of submitting information or transacting business electronically to the maximum extent possible and to promote the use of the internet and other information technologies to provide increased opportunities for citizen access to Government information and services, and for other purposes.

Executive Order 12372—Intergovernmental Consultation

This final rule is not subject to the requirements of Executive Order 12372, “Intergovernmental Review of Federal Programs,” as implemented under USDA's regulations at 2 CFR part 415, subpart C.

Executive Order 12866

This final rule is exempt from OMB review for purposes of Executive Order 12866 and, therefore, has not been reviewed by OMB.

Executive Order 13132—Federalism

The policies contained in this rule do not have any substantial direct effect on States, on the relationship between the National Government and the States, or on the distribution of power and responsibilities among the various levels of government. Nor does this rule impose substantial direct compliance costs on State and local governments. Therefore, consultation with the States is not required.

Congressional Review Act

This rule is not subject to the Congressional Review Act (“CRA”) (5 U.S.C. 801 et seq.), as the CRA provides an exemption for any rule relating to agency management or personnel and for rules relating to agency organization, procedure, or practice that does not substantially affect the rights or obligations of non-agency parties.

Regulatory Flexibility Act Certification

The Regulatory Flexibility Act (5 U.S.C. 601-602) (RFA) generally requires an agency to prepare a regulatory flexibility analysis of any rule subject to notice and comment rulemaking requirements under the Administrative Procedure Act (“APA”) or any other statute. The Administrative Procedures Act exempts from notice and comment requirements rules “relating to agency management or personnel or to public property, loans, grants, benefits, or contracts” (5 U.S.C. 553(a)(2)), so therefore an analysis has not been prepared for this rule.

Unfunded Mandates Reform Act

This final rule contains no Federal Mandates (under the regulatory provision of title II of the Unfunded Mandates Reform Act of 1995 (2 U.S.C. chapter 25) for State, local, and tribal governments, or the private sector. Thus, this final rule is not subject to the requirements of sections 202 and 205 of the Unfunded Mandates Reform Act of 1995.

National Environmental Policy Act

In accordance with the National Environmental Policy Act of 1969, Public Law 91-190, this final rule has been reviewed in accordance with 7 CFR part 1970 (“Environmental Policies and Procedures”). The Agency has determined that: (i) This action meets the criteria established in 7 CFR 1970.53(f); (ii) No extraordinary circumstances exist; and (iii) The action is not “connected” to other actions with potentially significant impacts, is not considered a “cumulative action” and is not precluded by 40 CFR 1506.1. Therefore, the Agency has determined that the action does not have a significant effect on the human environment, and therefore neither an Environmental Assessment nor an Environmental Impact Statement is required.

Executive Order 13175—Consultation and Coordination With Indian Tribal Governments

This Executive order imposes requirements on RBCS, RHS and RUS (the Agencies) in the development of regulatory policies that have tribal implications or preempt tribal laws. The Agencies have determined that the final rule does not have a substantial direct effect on one or more Indian tribe(s) or on either the relationship or the distribution of powers and responsibilities between the Federal Government and Indian tribes. Thus, this final rule is not subject to the requirements of Executive Order 13175. If Tribal leaders are interested in consulting with the Agencies on this final rule, they are encouraged to contact USDA's Office of Tribal Relations or RD's Native American Coordinator at: AIAN@usda.gov to request such a consultation.

Assistance Listing Number (Formally Known as the Catalog of Federal Domestic Assistance)

The Assistance Listing Numbers assigned to the programs affected by this final rule are: 10.351—Rural Business Development Grants, 10.751—Rural Energy Savings Program, 10.759—Special Evaluation Assistance for Rural Communities and Households, 10.761—Technical Assistance and Training Grants, 10.762—Solid Waste Management Grants, 10.766—Community Facilities Training and Technical Assistance Grants, 10.767 Intermediary Relending Program, 10.768—Business and Industry Loans, 10.863—Community Connect Grants, 10.865—Biorefinery Assistance Program, 10.867—Bioenergy Program for Advanced Biofuels, and 10.886—Rural Broadband Access Loan and Loan Guarantee Program. The Assistance Listings are available at SAM.gov.

Civil Rights Impact Analysis

RD has reviewed this final rule in accordance with USDA Regulation 4300-4, Civil Rights Impact Analysis, to identify any major civil rights impacts the rule might have on program participants on the basis of age, race, color, national origin, sex, disability, marital or familial status. Based on the review and analysis of the rule and all available data, issuance of this final rule is not likely to negatively impact low and moderate-income populations, minority populations, women, Indian tribes or persons with disability, by virtue of their age, race, color, national origin, sex, disability, or marital or familial status. No major civil rights impact is likely to result from this final rule.

USDA Non-Discrimination Statement

In accordance with Federal civil rights laws and USDA civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; or the 711 Relay Service.

To file a program discrimination complaint, a complainant should complete a Form AD-3027, USDA Program Discrimination Complaint Form, which can be obtained online at www.usda.gov/sites/default/files/documents/ad-3027.pdf, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: Program.Intake@usda.gov.

List of Subjects

7 CFR Part 1719

Electric power, Grant programs—energy, Loan programs—energy, Reporting and recordkeeping requirements, Rural areas.

7 CFR Part 1738

Loan programs—communications, Rural areas, Telecommunications, Telephone.

7 CFR Part 1739

Grant programs—communications, Rural areas, Telecommunications, Telephone.

7 CFR Part 1774

Community development, Grant programs, Reporting and recordkeeping requirements, Rural areas, Waste treatment and disposal, Water supply.

7 CFR Part 1775

Business and industry, Community development, Community facilities, Grant programs—housing and community development, Reporting and recordkeeping requirements, Rural areas, Waste treatment and disposal, Water supply, Watersheds.

7 CFR Part 3570

Administrative practice and procedure, Fair housing, Grant programs—housing and community development, Housing, Low and moderate income housing, Reporting and recordkeeping requirements, Rural areas.

7 CFR Part 4274

Community development, Loan programs—business, Reporting and recordkeeping requirements, Rural areas.

7 CFR Part 4279

Community development, Energy, Energy conservation, Fees, Grant programs, Loan programs—business, Loan programs—housing and community development, Renewable energy, Reporting and recordkeeping requirements, Rural areas.

7 CFR Part 4280

Business and industry, Energy, Grant programs—business, Loan programs—business, Rural areas.

7 CFR Part 4288

Administrative practice and procedure, Biobased products, Energy, Reporting and recordkeeping requirements.

Accordingly, for the reasons set forth in the preamble, the Agency amends 7 CFR parts 1719, 1738, 1739, 1774, 1775, 3570, 4274, 4279, 4280 and 4288 as follows:

PART 1719—RURAL ENERGY SAVINGS PROGRAM

1. The authority citation for part 1719 continues to read as follows:

Authority: 7 U.S.C. 8107a (Section 6407).

Subpart B—Application, Submission and Administration of RESP Loans

2. Amend § 1719.5 by revising paragraph (b)(2)(ii) to read as follows:

§ 1719.5 Application process and required information.

* * * * *

(b) * * *

(2) * * *

(ii) The Applicant's tax identification number, SAM Managed Identifier (SAMMI), Unique Entity Identifier, and such similar information as it may be subsequently amended or required for Federal funding.

* * * * *

PART 1738—RURAL BROADBAND LOANS, LOAN/GRANT COMBINATIONS, AND LOAN GUARANTEES

3. The authority citation for part 1738 continues to read as follows:

Authority: 7 U.S.C. 901 et seq.

Subpart E—Loan and Loan/Grant Combination Application Review and Underwriting

4. Amend § 1738.202 by:

a. Removing paragraph (b);

b. Redesignating paragraphs (c) through (e) as paragraphs (b) through (d), respectively; and

c. Revising newly redesignated paragraph (b).

The revision reads as follows:

§ 1738.202 Elements of a complete application.

* * * * *

(b) SAM registration. Prior to submitting an application, all Applicants requesting loan/grant combination funds must register in the System for Award Management (SAM) at https://sam.gov/ and provide a Unique Entity Identifier as part of the application. SAM registration must be active with current data at all times, from the application review throughout the active Federal Award. To maintain the required registration in the SAM database, annual renewal is required with a review and update of all information. The Applicant must ensure that the information in the database is current, accurate, and complete.

* * * * *

PART 1739—BROADBAND GRANT PROGRAM

5. The authority citation for part 1739 continues to read as follows:

Authority: 7 U.S.C. 901 et seq.

Subpart A—Community Connect Grant Program

6. Amend § 1739.10 by:

a. Removing paragraph (c);

b. Redesignating paragraph (d) as paragraph (c); and

c. Revising newly redesignated paragraph (c)(1).

The revision reads as follows:

§ 1739.10 Eligible applicant.

* * * * *

(c) * * *

(1) At the time of application, whether applying electronically or by paper, each applicant must have a Unique Entity Identifier (UEI) and an active registration in SAM before submitting its application in accordance with 2 CFR part 25. Instructions for obtaining the UEI are available at https://sam.gov/.

* * * * *

PART 1774—SPECIAL EVALUATION ASSISTANCE FOR RURAL COMMUNITIES AND HOUSEHOLDS PROGRAM (SEARCH)

7. The authority citation for part 1774 continues to read as follows:

Authority: 7 U.S.C. 1926(a)(2)(C).

Subpart A—General Provisions

§ 1774.2 [Amended]

8. Amend § 1774.2 by removing the definition of “DUNS Number”.

Subpart B—Grant Application Processing

9. Amend § 1774.10 by revising paragraph (a) introductory text to read as follows:

§ 1774.10 Applications.

(a) To file an application, an organization must provide their Unique Entity Identifier (UEI) in accordance with 2 CFR part 25. Instructions for obtaining the UEI are available at https://sam.gov/. To file a complete application, the following should be submitted:

* * * * *

PART 1775—TECHNICAL ASSISTANCE GRANTS

10. The authority citation for part 1775 continues to read as follows:

Authority: 5 U.S.C. 301; 7 U.S.C. 1989; 16 U.S.C. 1005.

Subpart—A General Provisions

§ 1775.2 [Amended]

11. Amend § 1775.2 by removing the definition of “DUNS Number”.

Subpart B—Grant Application Processing

12. Amend § 1775.10 by revising paragraphs (b)(3) and (c) introductory text to read as follows:

§ 1775.10 Applications.

* * * * *

(b) * * *

(3) Electronic applications will be accepted prior to the filing deadline through the Federal Government's eGrants website (Grants.gov) at https://www.grants.gov. Applicants should refer to instructions found on the Grants.gov website to submit an electronic application. A Unique Entity Identifier (UEI) from the System for Award Management and a Central Contractor Registry (CCR) registration is required prior to electronic submission. The sign-up procedures, required by Grants.gov, may take several business days to complete.

(c) Application requirements. To file an application, an organization must provide their UEI in accordance with2 CFR part 25. Instructions for obtaining the UEI are available at https://sam.gov/. To file a complete application, the following information should be submitted:

* * * * *

PART 3570—COMMUNITY PROGRAMS

13. The authority citation for part 3570 continues to read as follows:

Authority: 5 U.S.C. 301; 7 U.S.C. 1989.

Subpart F—Community Facilities Technical Assistance and Training Grants

§ 3570.252 [Amended]

14. Amend § 3570.252 by removing the definition of “DUNS”.

15. Amend § 3570.267 by revising paragraph (b) introductory text to read as follows:

§ 3570.267 Applications.

* * * * *

(b) Application requirements. To file an application, an organization must provide their Unique Entity Identifier (UEI) in accordance with 2 CFR part 25. Instructions for obtaining the UEI are available at https://sam.gov/. To file a complete application the following information must be submitted:

* * * * *

PART 4274—DIRECT AND INSURED LOANMAKING

16. The authority citation for part 4274 continues to read as follows:

Authority: 5 U.S.C. 301; 7 U.S.C. 1932 note; 7 U.S.C. 1989.

Subpart D—Intermediary Relending Program (IRP)

17. Amend § 4274.352 by revising paragraph (a)(4)(i) to read as follows:

§ 4274.352 Loan documentation for ultimate recipients.

* * * * *

(a) * * *

(4) * * *

(i) Name, address, Unique Entity Identifier, Federal ID number, and North American Classification System (NAICS) Code of the ultimate recipient;

* * * * *

PART 4279—GUARANTEED LOANMAKING

18. The authority citation for part 4279 continues to read as follows:

Authority: 5 U.S.C. 301; 7 U.S.C. 1989; 7 U.S.C. 1932(a); and Public Law 116-136, Division B, Title I.

Subpart B—Business and Industry Loans

19. Amend § 4279.161 by revising the introductory text to read as follows:

§ 4279.161 Filing preapplications and applications.

Borrowers and lenders are encouraged to file preapplications and obtain Agency comments before completing an application. However, if they prefer, borrowers and lenders may file a complete application without filing a preapplication. The Agency will neither accept nor process preapplications and applications unless a lender has agreed to finance the proposal. For borrowers other than individuals, a Unique Entity Identifier (UEI) is required. Instructions for obtaining the UEI are available at https://sam.gov/. Guaranteed loans exceeding $600,000 must be submitted under the requirements specified in paragraph (b) of this section. However, guaranteed loans of $600,000 and less may be submitted under the requirements of either paragraph (b) or (c) of this section.

* * * * *

Subpart C—Biorefinery, Renewable Chemical, and Biobased Product Manufacturing Assistance Loans

20. Amend § 4279.261 by revising paragraph (i) to read as follows:

§ 4279.261 Application for loan guarantee content.

* * * * *

(i) Unique Entity Identifier (UEI). For Borrowers other than individuals, a UEI, which can be obtained online at https://sam.gov/.

* * * * *

PART 4280—LOANS AND GRANTS

21. The authority citation for part 4280 continues to read as follows:

Authority: 7 U.S.C. 1989(a), 7 U.S.C. 2008s.

Subpart E—Rural Business Development Grants

22. Amend § 4280.416 by revising paragraph (c)(3) to read as follows:

§ 4280.416 Applicant eligibility.

* * * * *

(c) * * *

(3) Provide its Unique Entity Identifier (UEI) in each application it submits to the Agency. The UEI is included on the Standard Form (SF) 424, “Application for Federal Assistance.”

* * * * *

PART 4288—PAYMENT PROGRAMS

23. The authority citation for part 4288 continues to read as follows:

Authority: 5 U.S.C. 301; 7 U.S.C. 1989.

Subpart A—Repowering Assistance Payments to Eligible Biorefineries

24. Amend § 4288.20 by revising paragraph (b) introductory text to read as follows:

§ 4288.20 Submittal of applications.

* * * * *

(b) Content and form of submission. Applicants must submit a signed original and one copy of an application containing the information specified in this section. The applicant must also furnish the Agency the required documentation identified in Form RD 4288-4, “Repowering Assistance Program Application,” to verify compliance with program provisions before acceptance into the program. Note that applicants are required to have a Unique Entity Identifier (UEI) (unless the applicant is an individual). Instructions for obtaining the UEI are available at https://sam.gov/. Applicants must submit to the Agency the documents specified in paragraphs (b)(1) through (6) of this section.

* * * * *

Basil I. Gooden,
Under Secretary, Rural Development, United States Department of Agriculture.

[FR Doc. 2024-09447 Filed 4-30-24; 8:45 am]

BILLING CODE 3410-XY-P